NUCLEAR REGULATORY COMMISSION

Workshop Concerning the Revision of the Oversight Program for Nuclear Fuel Cycle Facilities

AGENCY: Nuclear Regulatory Commission (NRC).

ACTION: Notice of public workshop.

SUMMARY: NRC will hold a public workshop at the Nuclear Energy Institute (NEI), 1776 I Street, NW (Republic Place), in Washington, DC to provide the public, those regulated by the NRC, and other stakeholders, with information about and an opportunity to provide views on how NRC plans to revise its oversight program for nuclear fuel cycle facilities. This workshop follows the recent public stakeholder workshop held in Rockville, Maryland on February 22-23, 2000. Presentations and other documents provided at each workshop, together with a transcript of each workshop, are placed on the NRC INTERNET web page (http://www.nrc.gov).

Similar to the revision of the oversight program for commercial nuclear power plants, NRC initiated an effort to improve its oversight program for nuclear fuel cycle facilities. This is described in SECY-99-188 titled, “EVALUATION AND PROPOSED REVISION OF THE NUCLEAR FUEL CYCLE FACILITY SAFETY INSPECTION PROGRAM.” SECY-99-188 is available in the Public Document Room and on the NRC Web Page at http://www.nrc.gov/NRC/COMMISSION/SECYS/index.html.

Purpose of Workshop

To obtain stakeholder views for improving the NRC oversight program for ensuring licensee and certificate holders maintain protection of worker and public health and safety, protection of the environment, and safeguards for nuclear material and sensitive information and material in the interest of national security. The oversight program applies to nuclear fuel cycle facilities regulated under 10 CFR Parts 40, 70, and 76. The facilities currently include gaseous diffusion plants, highly enriched uranium fuel fabrication facilities, low-enriched uranium fuel fabrication facilities, and a uranium hexafluoride (UF6) production facility. These facilities possess large quantities of materials that are potentially hazardous (i.e., radioactive, toxic, and/or flammable) to the workers, public, and environment. In revising the oversight program, the goal is to have an oversight program that: (1) Provides earlier and more objective indications of acceptable and changing safety and safeguards performance, (2) increases stakeholder confidence in the NRC, and (3) increases regulatory effectiveness, efficiency, and realism. In this regard, the NRC desires the revised oversight program to be more risk-informed and performance-based and more focused on significant risks and poorer performers.

The workshop will focus on:

• Plans for communicating revision of the oversight program with stakeholders internal and external to the NRC;

• Objective and scope of safety and national security related cornerstones for meeting the NRC mission;

• Key performance attributes for achieving each cornerstone;

• Licensee performance attributes the NRC needs to monitor/assess by means of licensee provided performance indicators and NRC inspections to ensure cornerstone objectives are met;

• Criteria for selection of performance indicators and risk informed inspections;

• Measurable parameters and measurement methods for performance indicators; and

• Thresholds for performance.

DATES: Members of the public and other stakeholders are invited to attend and participate in the workshop, which is scheduled for 9:00 a.m. to 5:00 p.m. on Wednesday, March 22, and Thursday, March 23, 2000.

ADDRESSES: NEI, 1776 I Street (Republic Place), Washington, DC. Visitor parking around NEI is limited; however, the meeting site may be reached from Rockville by taking the Red line metro to Farragut North, and exiting at K Street. Farragut Park will be in front of you. Notice that 17th Street is parallel to the park. Walk one block along 17th Street to I Street, turn right, walk one more block. NEI is on the left on corner of 18th and I Streets, NW. From Reagan National Airport, NEI may be reached by taking the Blue line train towards Addison Road to Farragut West. Exit to 18th Street, and NEI is diagonally across the street on the corner of 18th and I Streets, NW.

FOR FURTHER INFORMATION CONTACT: Walter Schwink, Office of Nuclear Material Safety and Safeguards, U.S. Nuclear Regulatory Commission, Washington, DC 20555, telephone (301) 415-7253, e-mail wss@nrc.gov.

Dated at Rockville, Maryland, this 6th day of March, 2000.
For the Nuclear Regulatory Commission.
Philip Ting,
Chief, Operations Branch, Division of Fuel Cycle Safety and Safeguards.

[FR Doc. 00-5896 Filed 3-9-00; 8:45 am]

BILLING CODE 7590-01-P